DEPARTMENT OF THE INTERIOR

Bureau of Land Management

[WY-920-1320-EL, WYW158843]

Coal Lease Exploration License, WY

AGENCY: Bureau of Land Management, Interior.

ACTION: Notice of invitation for coal exploration license.

SUMMARY: Pursuant to section 2(b) of the Mineral Leasing Act of 1920, as amended by section 4 of the Federal Coal Leasing Amendments Act of 1976, 90 Stat. 1083, 30 U.S.A. 201(b), and to the regulations adopted at 43 CFR part 3410, all interested parties are hereby invited to participate with Antelope Coal Company on a pro rata cost sharing basis in its program for the exploration of coal deposits owned by the United States of America in the following-described lands in Campbell and Converse Counties, Wyoming:

T. 40 N., R. 71 W., 6th P.M., Wyoming

Sec. 3: Lots 15-18;

Sec. 4: Lots 5-20;

Sec. 5: Lots 5-7, 10-15, 17-20;

Sec. 8: Lots 2-4;

Sec. 9: Lots 1, 2, 4, 5, 7, 8;

Sec. 10: Lots 3-6;

T. 41 N., R. 71 W., 6th P.M., Wyoming

Sec. 28: Lots 1, 2, 5-16;

Sec. 29: Lots 5-16;

Sec. 32: Lots 1-4, 6-11, 13-16;

Sec. 33: Lots 1-16.

Containing 3,859.82 acres, more or less.

All of the coal in the above-described land consists of unleased Federal coal within the Powder River Basin Known Recoverable Coal Resource Area. The purpose of the exploration program is to obtain data to assess coal quality.

ADDRESSES: The proposed exploration program is fully described and will be conducted pursuant to an exploration plan to be approved by the Bureau of Land Management. Copies of the exploration plan (serialized under number WYW158843) are available for review during normal business hours in the following offices: Bureau of Land Management, Wyoming State Office, 5353 Yellowstone Road, P.O. Box 1828, Cheyenne, WY 82003; and, Bureau of Land Management, Casper Field Office,2987 Prospector Drive, Casper, WY 82604.

SUPPLEMENTARY INFORMATION: This notice of invitation will be published in “The News-Record” of Gillette, WY, and “The Douglas Budget” of Douglas, WY, once each week for two consecutive weeks beginning the week of September 29, 2003, and in the Federal Register. Any party electing to participate in this exploration program must send written notice to both the Bureau of Land Management and Antelope Coal Company no later than October 29, 2003. The written notice should be sent to the following addresses: Antelope Coal Company, Attn: Patrick Baumann, P.O. Box 3008, Gillette, WY 82717, and the Bureau of Land Management, Wyoming State Office, Branch of Solid Minerals, Attn: Mavis Love, P.O. Box 1828, Cheyenne, WY 82003.

The foregoing is published in the Federal Register pursuant to 43 CFR 3410.2-1(c)(1).

Dated: August 13, 2003.
Phillip C. Perlewitz,
Acting Deputy State Director, Minerals and Lands.

[FR Doc. 03-23449 Filed 9-26-03; 8:45 am]

BILLING CODE 4310-22-P